DEPARTMENT OF COMMERCE

International Trade Administration

[A-427-830]

Strontium Chromate From France: Final Affirmative Determination of Sales at Less Than Fair Value and Final Negative Determination of Critical Circumstances

AGENCY: Enforcement and Compliance, International Trade Administration, Department of Commerce.

SUMMARY: The Department of Commerce (Commerce) determines that strontium chromate from France is being, or is likely to be, sold in the United States at less than fair value (LTFV) for the period of investigation (POI) July 1, 2017 through June 30, 2018. The final estimated weighted-average dumping margins are listed below in the “Final Determination” section of this notice.

DATES: Applicable October 8, 2019.

FOR FURTHER INFORMATION CONTACT: Dennis McClure or Joshua Simonidis, AD/CVD Operations, Office VIII, Enforcement and Compliance, International Trade Administration, U.S. Department of Commerce, 1401 Constitution Avenue NW, Washington, DC 20230; telephone: (202) 482-5973 or (202) 482-0608, respectively.

SUPPLEMENTARY INFORMATION:

Background

On May 17, 2019, Commerce published in the Federal Register the Preliminary Determination of sales at LTFV of strontium chromate from France, in which we also postponed the final determination until September 30, 2019.¹ We invited interested parties to comment on the Preliminary Determination. A summary of the events that occurred since Commerce published the Preliminary Determination, as well as a full discussion of the issues raised by parties for this final determination, may be found in the Issues and Decision Memorandum.²

¹ See Strontium Chromate From France: Preliminary Affirmative Determination of Sales at Less Than Fair Value, Preliminary Negative Determination of Critical Circumstances, Postponement of Final Determination, and Extension of Provisional Measures, 84 FR 22438 (May 17, 2019) (Preliminary Determination), and accompanying Preliminary Decision Memorandum.

² See Memorandum, “Issues and Decision Memorandum for the Final Affirmative Determination in the Less-Than-Fair-Value Investigation of Strontium Chromate from France,” dated concurrently with, and hereby adopted by this notice (Issues and Decision Memorandum).

Scope of the Investigation

The product covered by this investigation is strontium chromate from France. For a complete description of the scope of this investigation, see Appendix I of this notice.

Scope Comments

During the course of this investigation of strontium chromate from France, Commerce did not receive scope comments from interested parties. Therefore, for this final determination, the scope of this investigation remains unchanged from that published in the Preliminary Determination.

Analysis of Comments Received

All issues raised in the case and rebuttal briefs submitted by parties in this investigation are addressed in the Issues and Decision Memorandum accompanying this notice. A list of the issues addressed in the Issues and Decision Memorandum is attached to this notice as Appendix II. The Issues and Decision Memorandum is a public document and is on file electronically via Enforcement and Compliance's Antidumping and Countervailing Duty Centralized Electronic Service System (ACCESS). ACCESS is available to registered users at https://access.trade.gov, and it is available to all parties in the Central Records Unit, room B-8024 of the main Commerce building. In addition, a complete version of the Issues and Decision Memorandum can be accessed directly at http://enforcement.trade.gov/frn/index.html. The signed and electronic versions of the Issues and Decision Memorandum are identical in content.

Verification

As provided in section 782(i) of the Tariff Act of 1930, as amended (the Act), during June 2019, we conducted verification of the sales and cost information submitted by Société Nouvelle des Couleurs Zinciques (SNCZ), the sole mandatory respondent, for use in our final determination. We used standard verification procedures, including an examination of relevant accounting and production records, and original source documents provided by SNCZ.³

³ For a discussion of our verification findings, see the following memoranda: “Verification of the Cost Response of Société Nouvelle des Couleurs Zinciques in the Less-than-Fair-Value Investigation of Strontium Chromate from France,” dated July 18, 2019; and “Verification of the Sales Response of Société Nouvelle des Couleurs Zinciques in the Antidumping Investigation of Strontium Chromate from France,” dated July 22, 2019.

Changes Since the Preliminary Determination

Based on our analysis of the comments received and our findings at verification, we made certain changes to the margin calculation for SNCZ. For a discussion of these changes, see the “Margin Calculations” section of the Issues and Decision Memorandum.

Use of Adverse Facts Available

At verification SNCZ failed to properly support the amounts reported for inland freight to the port and international freight expenses in its U.S. sales database. Because SNCZ provided information that cannot be verified, the use of facts available pursuant to section 776(a) of the Act is warranted. Moreover, SNCZ failed to act to the best of its ability to comply with Commerce's requests for information within the meaning of section 776(b) of the Act regarding these movement expenses. We, therefore, applied adverse facts available (AFA) to these movement expenses, pursuant to section 776(b) of the Act. As partial AFA, we applied the highest recalculated amounts, based on verification findings, for inland freight to the port and international freight to the U.S. sales database.⁴

⁴ For further discussion see Issues and Decision Memorandum.

All-Others Rate

Section 735(c)(5)(A) of the Act provides that Commerce shall determine an estimated all-others rate for all exporters and producers not individually examined. This rate shall be an amount equal to the weighted average of the estimated weighted-average dumping margins established for exporters and producers individually investigated, excluding any zero and de minimis margins, and any margins determined entirely under section 776 of the Act.

Commerce calculated an individual estimated weighted-average dumping margin for SNCZ, the only individually examined exporter/producer in this investigation. Because the only individually calculated dumping margin is not zero, de minimis, or determined entirely under section 776 of the Act, the estimated weighted-average dumping margin calculated for SNCZ is the margin assigned to all other producers and exporters, pursuant to section 735(c)(5)(A) of the Act.

Final Negative Determination of Critical Circumstances

In accordance with section 733(e)(1) of the Act and 19 CFR 351.206, we preliminarily determined that critical circumstances did not exist with respect to imports of strontium chromate from France because imports were not massive with respect to SNCZ and all other producers and exporters. For this final determination, our determination remains unchanged from that published in the Preliminary Determination. Accordingly, pursuant to section 735(a)(3) of the Act, we find that critical circumstances do not exist with respect to imports of strontium chromate from France. For a full description of the methodology and results of Commerce's critical circumstances analysis, see the Issues and Decision Memorandum.

Final Determination

The final estimated weighted-average dumping margins are as follows:

Exporter or producer | Estimated weighted-average dumping margin (percent)
Société Nouvelle des Couleurs Zinciques | 32.16
All Others | 32.16

Disclosure

We intend to disclose the calculations performed in this final determination within five days of the date of publication of this notice to parties in this proceeding in accordance with 19 CFR 351.224(b).

Continuation of Suspension of Liquidation

In accordance with section 735(c)(1)(B) of the Act, for this final determination, we will direct U.S. Customs and Border Protection (CBP) to continue to suspend liquidation of all entries of strontium chromate, as described in Appendix I of this notice, which are entered, or withdrawn from warehouse, for consumption on or after May 17, 2019, the date of publication in the Federal Register of the affirmative Preliminary Determination.

Pursuant to section 735(c)(1)(B)(ii) of the Act and 19 CFR 351.210(d), we will instruct CBP to require a cash deposit for such entries of merchandise equal to the estimated weighted-average dumping margin as follows: (1) The cash deposit rate for the respondents listed above will be equal to the respondent-specific estimated weighted-average dumping margin determined in this final determination; (2) if the exporter is not a respondent identified above but the producer is, then the cash deposit rate will be equal to the respondent-specific estimated weighted-average dumping margin established for that producer of the subject merchandise; and (3) the cash deposit rate for all other producers and exporters will be equal to the all-others estimated weighted-average dumping margin. These suspension-of-liquidation instructions will remain in effect until further notice.

International Trade Commission Notification

In accordance with section 735(d) of the Act, we will notify the International Trade Commission (ITC) of the final affirmative determination of sales at LTFV. Because Commerce's final determination is affirmative, in accordance with section 735(b)(2) of the Act, the ITC will make its final determination as to whether the domestic industry in the United States is materially injured, or threatened with material injury, by reason of imports, or sales (or the likelihood of sales) for importation of strontium chromate from France no later than 45 days after this final determination. If the ITC determines that such injury does not exist, this proceeding will be terminated, and all cash deposits will be refunded or canceled. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Notification Regarding Administrative Protective Orders

This notice serves as a reminder to parties subject to an administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

Notification to Interested Parties

This determination and this notice are issued and published pursuant to sections 735(d) and 777(i)(1) of the Act and 19 CFR 351.210(c).

Dated: September 30, 2019.
Jeffrey I. Kessler,
Assistant Secretary for Enforcement and Compliance.

Appendix I

Scope of the Investigation

The merchandise covered by this investigation is strontium chromate, regardless of form (including but not limited to, powder (sometimes known as granular), dispersions (sometimes known as paste), or in any solution). The chemical formula for strontium chromate is SrCrO4 and the Chemical Abstracts Service (CAS) registry number is 7789-06-2.

Strontium chromate that has been blended with another product or products is included in the scope if the resulting mix contains 15 percent or more of strontium chromate by total formula weight. Products with which strontium chromate may be blended include, but are not limited to, water and solvents such as Aromatic 100 Methyl Amyl Ketone (MAK)/2-Heptanone, Acetone, Glycol Ether EB, Naphtha Leicht, and Xylene. Subject merchandise includes strontium chromate that has been processed in a third country into a product that otherwise would be within the scope of this investigation if processed in the country of manufacture of the in-scope strontium chromate.

The merchandise subject to this investigation is currently classified in the Harmonized Tariff Schedule of the United States (HTSUS) under subheading 2841.50.9100. Subject merchandise may also enter under HTSUS subheading 3212.90.0050. While the HTSUS subheadings and CAS registry number are provided for convenience and customs purposes, the written description of the scope is dispositive.

Appendix II

List of Topics Discussed in the Issues and Decision Memorandum

I. Summary

II. Background

III. Scope of the Investigation

IV. Margin Calculations

V. Final Negative Determination of Critical Circumstances

VI. Discussion of Issues

VII. Recommendation

[FR Doc. 2019-21807 Filed 10-7-19; 8:45 am]

BILLING CODE 3510-DS-P